DEPARTMENT OF HEALTH AND HUMAN SERVICES

Administration for Children And Families

Announcement of an Award

AGENCY: Office of Policy, Research and Evaluation, ACF, HHS.

ACTION: The Administration for Children and Families (ACF) announces the award of a cooperative agreement to the Congressional Hunger Center in Washington, DC.

C.F.D.A. Number: 93.647.

Statutory Authority: The award is authorized under Section 1110 of the Social Security Act, 42 U.S.C. 613.

SUMMARY: The Administration for Children and Families (ACF), Office of the Deputy Assistant Secretary and Inter-Departmental Liaison for Early Childhood Development announces the award of a cooperative agreement with the Congressional Hunger Center (CHC) in Washington, DC, to work with ACF programs on hunger and obesity issues for young children. An award in the amount of $3,000 has been made to the CHC.

DATES: March 15, 2011-August 1, 2011.

FOR FURTHER INFORMATION CONTACT: George Askew, MD, FAAP, Senior Policy Advisor for Early Childhood Health and Development, Office of the Deputy Assistant Secretary and Inter-Departmental Liaison for Early Childhood Development, 901 D Street, SW., Washington, DC 20447. Telephone: 202-401-1399; E-mail: george.askew@acf.hhs.gov.

Dated: March 16, 2011.
George Askew,
Senior Policy Advisor for Early Childhood Health and Development, Office of the Deputy Assistant Secretary and Inter-Departmental Liaison for Early Childhood Development.

[FR Doc. 2011-6991 Filed 3-23-11; 8:45 am]

BILLING CODE 4184-07-P